INTERNATIONAL TRADE COMMISSION

[Investigation Nos. 701-TA-467 and 731-TA-1164-1165 (Review)]

Narrow Woven Ribbons With Woven Selvedge From China and Taiwan; Notice of Commission Determinations To Conduct Full Five-Year Reviews

AGENCY: United States International Trade Commission.

ACTION: Notice.

SUMMARY: The Commission hereby gives notice that it will proceed with full reviews pursuant to the Tariff Act of 1930 (“The Act”) to determine whether revocation of the countervailing duty order on narrow woven ribbons with woven selvedge from China and revocation of the antidumping duty orders on narrow woven ribbons with woven selvedge from China and Taiwan would be likely to lead to continuation or recurrence of material injury within a reasonably foreseeable time. A schedule for the reviews will be established and announced at a later date.

DATES: Effective Date: November 6, 2015.

FOR FURTHER INFORMATION CONTACT: Michael Szustakowski (202-205-3169), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

For further information concerning the conduct of this review and rules of general application, consult the Commission's Rules of Practice and Procedure, part 201, subparts A through E (19 CFR part 201), and part 207, subparts A, D, E, and F (19 CFR part 207).

SUPPLEMENTARY INFORMATION: On November 6, 2015, the Commission determined that it should proceed to full reviews in the subject five-year reviews pursuant to section 751(c) of the Tariff Act of 1930 (19 U.S.C. 1675(c)). The Commission found that the domestic interested party group response to its notice of institution (80 FR 46048, August 3, 2015) was adequate and that the respondent interested party group with respect to the review on subject imports from Taiwan was adequate, and decided to conduct a full review of the antidumping duty order on narrow woven ribbons with woven selvedge from Taiwan. Although the Commission received a response to its notice of institution from Chinese respondent interested parties, the Commission found that the respondent interested party group response with respect to the reviews on subject imports from China was inadequate.¹ However, the Commission determined to conduct full reviews concerning the orders on narrow woven ribbons with woven selvedge from China to promote administrative efficiency in light of its decision to conduct a full review with respect to the review on subject imports from Taiwan. A record of the Commissioners' votes, the Commission's statement on adequacy, and any individual Commissioner's statements will be available from the Office of the Secretary and at the Commission's Web site.

¹ Vice Chairman Pinkert and Commissioner Williamson determined that the Chinese respondent group responses were adequate and voted for full reviews.

Authority: These reviews are being conducted under authority of title VII of the Tariff Act of 1930; this notice is published pursuant to section 207.62 of the Commission's rules.

By order of the Commission.
Issued: November 19, 2015.
Lisa R. Barton,
Secretary to the Commission.

[FR Doc. 2015-29938 Filed 11-24-15; 8:45 am]

BILLING CODE 7020-02-P